DEPARTMENT OF THE INTERIOR

National Park Service

Rescind 1990 Cruise Ship Management Policy, Glacier Bay National Park & Preserve, Alaska

AGENCY: National Park Service, Interior.

ACTION: Rescind 1990 Cruise Ship Management Policy, Glacier Bay National Park & Preserve, Alaska.

SUMMARY: Effective with publication of this public notice, the National Park Service (NPS) has rescinded a policy concerning management of cruise ships in Glacier Bay National Park & Preserve which was originally published in the Federal Register on May 31, 1990 (FR, Vol. 55, No. 105, page 22108, 5/31/1990, FR Doc. 9012551). In summary, the policy was intended to increase opportunities for competitive award of cruise ship use days into Glacier Bay and to enhance visitor opportunities to select from a wider variety of cruise ship operations. These objectives were to be accomplished under the 1990 policy primarily by limiting the transferability of concession permits for cruise ship tours in Glacier Bay, limiting the scope of a preference in renewal of concessions permits that would otherwise apply, and granting additional renewal preferences.

However, in 1998, the Congress revised and reconfirmed the management of NPS concession contract authorizations through the NPS Concessions Management Improvement Act of 1998, Public Law 105-391, November 13, 1998. This law does not permit the continued implementation of most of the operative provisions of the 1990 policy such that the policy can no longer be implemented to achieve its objectives. Accordingly, the NPS has rescinded the 1990 policy. However, NPS does intend to continue to encourage the award of multiple concession contracts to different operators for Glacier Bay cruise operations so as to enhance visitor choices in visiting Glacier Bay by cruise ship. This will be accomplished primarily by limiting the number of cruise ship use days permitted under applicable cruise ship concessions contracts, thereby increasing the number of concession contracts available for award.

DATES: February 5, 2008.

FOR FURTHER INFORMATION CONTACT: Kevin Apgar, Concession Program Manager, Alaska Region, telephone: (907) 644-3361, e-mail at Kevin_Apgar@nps.gov, or National Park Service, Attn. Kevin Apgar, 240 West 5th Avenue, Anchorage, AK 99501.

Dated: December 27, 2007.
Daniel N. Wenk,
Deputy Director, National Park Service.

[FR Doc. E8-2095 Filed 2-4-08; 8:45 am]

BILLING CODE 4312-HX-P